ENVIRONMENTAL PROTECTION AGENCY

[FRL-9989-75-OGC]

Local Government Advisory Committee: Request for Nominations

AGENCY: Environmental Protection Agency.

ACTION: Notice of request for nominations.

SUMMARY: EPA's LGAC is a federal advisory committee chartered in 1992 under the Federal Advisory Committee Act (FACA), Public Law 92-463, to advise the EPA Administrator “from the field” on a broad range of environmental issues impacting local governments. Current LGAC committee members, and future qualified nominees, hold either current elected or non-elected/appointed positions and possess leadership experience—whether managerial or technical/programmatic—in the following contexts: Small community or township government (under 10,000 population); moderate-size or large city government; county government; state government; and, tribal government.

This notice solicits nominations to fill 10-15 vacancies on EPA's LGAC—currently comprised of 30 individuals. Vacancies are anticipated to be filled by May, 2019.

DATES: Nominations are reviewed on an ongoing basis. However, to be considered for May 2019 appointments, nominations should be submitted by March 15, 2019.

ADDRESSES: Submit nominations electronically to eargle.frances@epa.gov with a subject heading of `LGAC 2019 NOMINATION'. You may also submit nominations by mail to: M. Frances Eargle, LGAC Designated Federal Officer, Office of Congressional and Intergovernmental Relations (OCIR), U.S. Environmental Protection Agency, 1200 Pennsylvania Avenue NW (MC1301A), Washington, DC 20460. Non-electronic submissions must follow the same format and contain the same information.

FOR FURTHER INFORMATION CONTACT: M. Frances Eargle, Designated Federal Officer for the LGAC, U.S. EPA; telephone (202) 564-3115; email: eargle.frances@epa.gov.

SUPPLEMENTARY INFORMATION: Nominations: The credentials of all applicants/nominees will be fully considered, but viable candidates must—at a minimum—fall within the vocational/experiential parameters outlined in the Summary above. In addition to experience in local and/or state government, additional criteria to be considered may include: Experience with public-private partnerships; coalition-building and grass-roots involvement; implementation of environmental regulatory programs, whether federally-delegated, state-required or locally-mandated, including permitting programs, Brownfields, Superfund clean-up, air and water quality, and solid waste management; and, rural and/or small community economic development. Diversity in vocational/career background, including private sector/industry experience, agricultural sector experience, professional affiliations, and demonstrated familiarity with local, regional and national environmental issues, also may be considered.

LGAC members are appointed for 1-2 year terms and are eligible for reappointment. The Committee meets several times a year, and the Administrator may ask members to serve on Subcommittees and Workgroups to develop reports and recommendations to address specific policy issues. The average workload for members is approximately 5 to 8 hours per month. While EPA is unable to provide compensation for services, official Committee travel and related expenses (lodging, etc.) will be fully reimbursed.

Nominations can be submitted in electronic format (preferred) or in hard copy format (see ADDRESSES section above). To be considered, all nominations should include:

• Current contact information for the applicant/nominee, including name, organization (and position within that organization), current business address, email address, and daytime telephone number;

• Brief statement describing the nominee's interest in serving on the LGAC;

• Resume and short biography (no more than 2 paragraphs) describing professional, educational and other pertinent qualifications of the nominee, including a list of relevant activities as well as any current or previous service on advisory committees; and,

• Letter(s) of recommendation from a third party (or parties) supporting the nomination. Letter(s) should describe how the nominee's experience and knowledge will bring value to the work of the LGAC.

Other sources, in addition to this Federal Register notice, may be utilized in the solicitation of nominees. EPA expressly values and welcomes diversity. In an effort to obtain nominations of diverse candidates, the agency encourages nominations of women and men of all racial and ethnic groups. Individuals may self-nominate.

Dated: December 20, 2018.
Jack Bowles,
Director, State and Local Relations.

[FR Doc. 2019-03000 Filed 2-20-19; 8:45 am]

BILLING CODE 6560-50-P